SURFACE TRANSPORTATION BOARD

30-Day Notice of Intent To Seek Reinstatement Without Change: Generic Clearance for the Collection of Qualitative Feedback on Agency Service Delivery; Correction

AGENCY: Surface Transportation Board.

ACTION: Notice; correction.

SUMMARY: The Surface Transportation Board (Board) published a document in the Federal Register on October 3, 2024, concerning the Board's intent to request from the Office of Management and Budget (OMB) approval without change of the Generic Clearance for the Collection of Qualitative Feedback on Agency Service Delivery.

FOR FURTHER INFORMATION CONTACT: Chris Oehrle, PRA Officer, Surface Transportation Board, 395 E Street SW, Washington, DC 20423-0001, or pra@stb.gov. If you require an accommodation under the Americans with Disabilities Act, please call (202) 245-0245.

SUPPLEMENTARY INFORMATION:

Correction

In the Federal Register of October 3, 2024, in FR Doc. 2024-22813, in 89 FR 80624. On page 80625, in the first column, in the SUMMARY heading, the first sentence correcting the following language “approval without change of the six existing collections described below” to read, “approval without change of the existing collection described below.” Due to this inadvertent error, comments on the original information collection will be accepted if submitted by November 18, 2024.

Dated: October 11, 2024.
Jeffrey Herzig,
Clearance Clerk.

[FR Doc. 2024-23933 Filed 10-16-24; 8:45 am]

BILLING CODE 4915-01-P